SECURITIES AND EXCHANGE COMMISSION

Sunshine Act Meetings

Notice is hereby given, pursuant to the provisions of the Government in the Sunshine Act, Pub. L. 94-409, that the Securities and Exchange Commission will hold the following meetings during the week of October 9, 2006: An Open Meeting will be held on Wednesday, October 11, 2006 at 10 a.m. in the Auditorium, Room LL-002, and Closed Meetings will be held on Wednesday, October 11, 2006 at 11 a.m. and Thursday, October 12, 2006 at 2 p.m.

Commissioners, Counsels to the Commissioners, the Secretary to the Commission, and recording secretaries will attend the Closed Meetings. Certain staff members who have an interest in the matters may also be present.

The General Counsel of the Commission, or his designee, has certified that, in his opinion, one or more of the exemptions set forth in 5 U.S.C. 552b(c)(3), (5), (7), (9)(B) and (10) and 17 CFR 200.402(a)(3), (5), (7), (9)(ii), and (10) permit consideration of the scheduled matters at the Closed Meetings.

Commissioner Atkins, as duty officer, voted to consider the items listed for the closed meeting in closed session.

The subject matter of the Open Meeting on Wednesday, October 11, 2006 will be:

The Commission will hear oral argument in an appeal by James T. Patten from the decision of an administrative law judge. The law judge found that, during two separate periods in 2002 and 2003, Patten manipulated, and aided and abetted the manipulation of, the common stock price of Initio, Inc., formerly traded on the Nasdaq Small Cap Market. The law judge found that, through his conduct in placing orders to buy Initio shares for himself and on behalf of a customer, Patten violated Section 10(b) of the Securities Exchange Act of 1934 and Rule 10b-5 thereunder. The law judge ordered Patten to cease and desist from committing, causing, and aiding and abetting violations of Section 10(b) and Rule 10b-5, ordered him to pay a $60,000 civil penalty, and barred him from association with any broker or dealer. Among the issues likely to be argued are whether Patten violated Section 10(b) of the Exchange Act and Rule 10b-5 thereunder in entering orders to buy Initio shares, and, if so, whether and to what extent sanctions should be imposed on him.

The subject matter of the Closed Meeting scheduled for Wednesday, October 11, 2006 will be: Post-argument discussion.

The subject matters of the Closed Meeting scheduled for Thursday, October 12, 2006 will be: Formal orders of investigation; institution and settlement of injunctive actions; institution and settlement of administrative proceedings of an enforcement nature; and an adjudicatory matter.

At times, changes in Commission priorities require alterations in the scheduling of meeting items.

For further information and to ascertain what, if any, matters have been added, deleted or postponed, please contact: The Office of the Secretary at (202) 551-5400.

Dated: October 4, 2006.
Nancy M. Morris,
Secretary.

[FR Doc. 06-8580 Filed 10-4-06; 3:55 pm]

BILLING CODE 8011-01-P